DEPARTMENT OF HEALTH AND HUMAN SERVICES

Center for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 65 FR 4979, dated February 2, 2000) is a amended to reflect the restructuring of the Office of Health and Safety, Office of the Director, Centers for Disease Control and Prevention (CDC).

Section C-B, Organization and Functions, is hereby amended as follows:

Add the following item to the mission statement for the Office of Health and Safety (CA1): (7) provides advice and counsel to the CDC Office of the Director on health and safety related matters.

After the functional statement for the Office of the Director (CA11), insert the following:

External Activities (CA112). (1) Manages CDC regulatory programs for which the Office of Health and Safety is responsible (i.e., import permit program [42 CFR 71], laboratory registration/select agent transfer program [42 CFR 72.6], and infectious agents shipping regulation [42 CFR 72]; (2) develops and reviews national safety guidelines including the “CDC/NIH Biosafety in Microbiological and Biomedical Laboratories” and the infectious agent shipping regulations; (3) participates in CDC, HHS, and interagency committees and workgroups considering matters related to laboratory safety including the public health response to bioterrorism; (4) provides consultations and technical assistance to State and local health departments on matters related to laboratory safety; (5) provides consultation and technical assistance to CDC laboratories located outside the US; (6) manages the WHO Collaborating Center for Applied Biosafety and Training at CDC; (7) participates in other domestic and international laboratory safety activities as requested.

Resource Management Activity (CA113). (1) Develops and coordinates budgets for OHS; (2) plans, coordinates, and provides administrative, fiscal and management assistance, including personnel, travel, training, and contract administration; (3) assists in formulating, developing, negotiating, managing, and administering service contracts; (4) coordinates, manages, and provides review and oversight of acquisition and reimbursable agreement activities; (5) develops and implements OHS administrative policies, procedures, and operations, and prepares special reports and studies; (6) manages OHS centralized computer databases and internal applications; (7) develops and coordinates the implementation of security programs; (8) designs, implements, and evaluates OHS communications strategies including marketing messages, materials, and methods; (9) provides oversight for the Employee Health Services Clinic and the Worksite Health Promotion Programs for employees in the Atlanta area and for the Employee Assistance Program for employees based in Atlanta and remote locations.

Delete in their entirety the titles and functional statements for the Biosafety Branch (CA14) and the Chemical and Physical Hazards Branch (CA12) and insert the following:

Environmental, Health, and Safety Branch (CA13). (1) Develops and implements occupational health and safety programs for CDC employees, facility visitors, and management, taking the lead for programs in chemical safety, ergonomics, indoor air quality, hazard communication, respiratory protection, personal protective equipment, safety equipment and systems, hearing conservation, physical safety, fire safety, lock out-tag out, confined spaces, electrical safety, emergency response, and others; (2) identifies, develops, and provides for specialized training in environmental, occupational health, and safety for CDC employees and management; (3) develops, implements, and manages the accident/incident prevention program, including conducting investigations and recommending corrective and preventative measures; (4) develops and implements CDC's environmental programs, including hazardous materials and waste management, recycling, pollution prevention, environmental permits, notifications, monitoring, and environmental audits; (5) conducts CDC property and site assessments; (6) reviews, evaluates, and recommends changes to contracts with environmental, health, and safety requirements, and reviews contractors' environmental, health, and safety programs to ensure protection of CDC personnel and property; (7) provides consultation, advice, recommendations, and direct support to CDC employees, supervisors, and management officials in environmental, health, and safety matters to ensure compliance with laws, regulations, rules, and CDC's environmental, health, and safety policies; (8) in cooperation with the CIOs, coordinates, develops, and implements consolidated emergency response plans to comply with Federal and local laws and regulations; (9) develops, coordinates, and implements fire safety program and emergency evacuation plans; (10) reviews plans and specifications of new construction and renovations and recommends changes and additions to ensure protection of CDC's employees and property, and compliance with environmental, occupational health, and safety laws, regulations, and codes; (11) develops and implements programs for identifying and abating asbestos, lead, and other hazardous materials at all CDC-owned facilities.

Laboratory Safety Branch (CA15). (1) Develops and implements programs for biosafety and radiation protection in all domestic CDC scientific and diagnostic laboratory programs and animal care and use facilities; (2) manages the laboratory safety program for biological, chemical, radiological, and other hazards, and—through advice and counsel to line management—ensures compliance with all Occupational Safety and Health Administration, Nuclear Regulatory Commission, and other Federal, State and local regulations and guidelines; (3) in coordination with program safety committees, conducts a comprehensive annual safety survey of all laboratory, animal and associated support work areas; (4) provides consultation and direct support to CDC laboratory and animal workers, supervisors, and management officials on working safely with biological, chemical, and radiological agents; (5) conducts risk assessments and hazard evaluations of biological, radiological, and chemical hazards; (6) advises CIOs on containment levels, work practices, immunizations, and selection and use of safety and monitoring equipment; (7) manages radiological waste program; (8) provides consultation and direct support for the decontamination of laboratory wastes, equipment, and laboratory facilities; (9) develops and manages a comprehensive safety program for the BSL-4 Maximum Containment Laboratory, smallpox repository, and other specialized containment operations; (10) provides safety training programs for biological, chemical, radiological, and other laboratory hazards; (11) provides a comprehensive incident emergency response, investigation and notification program for biological, radiological, and chemical spills and exposures; (12) manages a pathogen registration program to ensure compliance with Federal, State, and local requirements; (13) serves as a national and international resource on biological safety and laboratory safety.

Dated: April 27, 2000.
Jeffrey P. Koplan,
Director.

[FR Doc. 00-11733 Filed 5-9-00; 8:45 am]

BILLING CODE 4160-18-M